DEPARTMENT OF THE INTERIOR

Bureau of Land Management

[OR-958-1430-ET; HAG-03-0087; OR-16756]

Public Land Order No. 7572; Extension of Public Land Order No. 6476; Oregon

AGENCY: Bureau of Land Management, Interior.

ACTION: Public Land Order.

SUMMARY: This order extends Public Land Order No. 6476 for an additional 20-year period. This extension is necessary to continue the protection of the Wheeler Creek Research Natural Area.

EFFECTIVE DATE: October 5, 2003.

FOR FURTHER INFORMATION CONTACT: Roger Mendenhall, Siskiyou National Forest, PO Box 440, Grants Pass, Oregon 97528, 541-471-6521, or Chuck Roy, Bureau of Land Management, PO Box 2965, Portland Oregon 97208, 503-808-6189.

Order

By virtue of the authority vested in the Secretary of the Interior by Section 204 of the Federal Land Policy and Management Act of 1976, 43 U.S.C. 1714 (1994), it is ordered as follows:

1. Public Land Order No. 6476, (48 FR 45395, October 5, 1983) which withdrew 334 acres of National Forest System land in the Siskiyou National Forest from the United States mining laws for the protection of the Wheeler Creek Research Natural Area, is hereby extended for an additional 20-year period.

2. Public Land Order No. 6476 will expire on October 4, 2023, unless as a result of a review conducted prior to the expiration date pursuant to Section 204(f) of the Federal Land Policy and Management Act of 1976, 43 U.S.C. 1714(f) (1994), the Secretary determines that the withdrawal be extended.

Dated: June 23, 2003.
Rebecca W. Watson,
Assistant Secretary—Land and Minerals Management.

[FR Doc. 03-17929 Filed 7-15-03; 8:45 am]

BILLING CODE 4310-33-P